ENVIRONMENTAL PROTECTION AGENCY

[ER-FRL-6612-3]

Environmental Impact Statements; Notice of Availability

Responsible Agency: Office of Federal Activities, General Information, (202) 564-7167 or www.epa.gov/oeca/ofa.

Weekly receipt of Environmental Impact Statements

Filed October 23, 2000 through October 27, 2000

Pursuant to 40 CFR 1506.9.

EIS No. 000369, Draft EIS, IBR, ID, Arrowrock Dam Outlet Works Rehabilitation, Construction and Operation, To Remove 10 Lower Level Ensign Valves and Replace with 10 Clamshell Gates, Boise River, City of Boise, ID, Due: January 05, 2001, Contact: John Tiedeman (208) 378-5034.

EIS No. 000370, Draft EIS, BOP, ID, Terre Haute United States Penitentiary (USP), Proposal to Construct and Operate 960 Beds Facilities along with a Special Confinement Unit of 100-120 Beds to Alleviating Overcrowding, Vigo County, Terra Haute, ID, Due: December 18, 2000, Contact: David J. Dorworth (202) 514-6470.

EIS No. 000371, Final EIS, COE, NJ, Raritan Bay and Sandy Hook Bay, Hurricane and Storm Damage Reduction Project, Flood Control and Storm Damage Protection, Port Monmouth, Middletown Township, Monmouth County, NJ, Due: December 04, 2000, Contact: Mark H. Burles (212) 264-4663.

EIS No. 000372, Final EIS, COE, CA, Lower Mission Creek Flood Control Project, Proposed Plan for Flood Control, City of Santa Barbara, Santa Barbara County, CA, Due: December 04, 2000, Contact: Joy Jaiswal (213) 452-3871.

EIS No. 000373, Final EIS, AFS, ID, Brown Creek Timber Sale Project, Implementation, Payette National Forest, New Meadow Ranger District, Adam County, ID, Due: December 20, 2000, Contact: Jack Irish (208) 347-0300.

Dated: October 31, 2000.
Joseph C. Montgomery,
Director, NEPA Compliance Division, Office of Federal Activities.

[FR Doc. 00-28282 Filed 11-2-00; 8:45 am]

BILLING CODE 6560-50-U